NUCLEAR REGULATORY COMMISSION

[NRC-2013-0079]

Qualification Tests for Safety-Related Actuators in Nuclear Power Plants

AGENCY: Nuclear Regulatory Commission.

ACTION: Draft regulatory guide; request for comment.

SUMMARY: The U.S. Nuclear Regulatory Commission (NRC) is issuing for public comment draft regulatory guide (DG), DG-1235, “Qualification Tests for Safety-Related Actuators in Nuclear Power Plants.” DG-1235 is proposed Revision 1 of RG 1.73, dated January 1974. This revision endorses, with clarifications, the enhanced consensus practices for qualifying safety-related actuators, and actuator components, in Nuclear Power Generating Stations in order to demonstrate their ability to perform their intended safety functions under all required conditions as described in the Institute of Electrical and Electronics Engineers (IEEE) standard 382-2006, “Standard for Qualification of Safety-Related Actuators for Nuclear Power Generating Stations.”

DATES: Submit comments by June 28, 2013. Comments received after this date will be considered if it is practical to do so, but the NRC is able to ensure consideration only for comments received on or before this date. Although a time limit is given, comments and suggestions in connection with items for inclusion in guides currently being developed or improvements in all published guides are encouraged at any time.

ADDRESSES: You may submit comment by any of the following methods:

• Federal Rulemaking Web site: Go to http://www.regulations.gov and search for Docket ID NRC-2013-0079. Address questions about NRC dockets to Carol Gallagher; telephone: 301-492-3668; email: Carol.Gallagher@nrc.gov. For technical questions, contact the individual(s) listed in the FOR FURTHER INFORMATION CONTACT section of this document.

• Federal Rulemaking Web site: Go to http://www.regulations.gov and search for Docket ID NRC-2013-0079. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Darrell Murdock, telephone: 301-251-7629, email: Darrell.Murdock@nrc.gov; or Mark Orr, telephone: 301-251-7495, email: Mark.Orr@nrc.gov. Both of the Office of Nuclear Regulatory Research, U.S. Nuclear Regulatory Commission, Washington, DC 20555-0001.

SUPPLEMENTARY INFORMATION:

I. Accessing Information and Submitting Comments

A. Accessing Information

Please refer to Docket ID NRC-2013-0079 when contacting the NRC about the availability of information regarding this document. You may access information related to this document, which the NRC possesses and is publicly-available, by the following methods:

• Federal Rulemaking Web site: Go to http://www.regulations.gov and search for Docket ID NRC-2013-0079.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically under ADAMS Accession Number ML103120727. The regulatory analysis may be found in ADAMS under Accession No. ML103120737.

Regulatory guides are not copyrighted, and NRC approval is not required to reproduce them.

• NRC's PDR: You may examine and purchase copies of public documents at the NRC's PDR, Room O1-F21, One White Flint North, 11555 Rockville Pike, Rockville, Maryland 20852.

B. Submitting Comments

Please include Docket ID NRC-2013-0079 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

The NRC is issuing for public comment a draft guide in the NRC's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide entitled “Qualification Tests for Safety-Related Actuators in Nuclear Power Plants” is temporarily identified by its task number, DG-1235. The DG-1235 is proposed Revision 1 of RG 1.73, “Qualification Tests of Electric Valve Operators Installed Inside the Containment of Nuclear Power Plants” dated January 1974. The initial version of RG 1.73, endorsed IEEE Std. 382-1972, “IEEE Trial-Use Guide for Type Test of Class I Electric Valve Operators for Nuclear Power Generating Stations.” The IEEE standard was revised in 1985, again in 1996, and, most recently, in 2006. But RG 1.73 was not updated. This revision updates RG 1.73 to endorse the current version of IEEE Std. 382-2006, “Standard for Qualification of Safety-Related Actuators for Nuclear Power Generating Stations.”

III. Backfitting and Issue Finality

This draft regulatory guide, if finalized, does not constitute backfitting as defined in 10 50.109 (the Backfit Rule) and is not otherwise inconsistent with the issue finality provisions in 10 CFR Part 52, “Licenses, Certifications and Approvals for Nuclear Power Plants.” This regulatory guide provides guidance on one possible means for meeting NRC's regulatory requirements for environmental qualification of safety-related power-operated valve actuators in nuclear power plants as set forth in the regulations and the qualification testing requirements of Criterion III, “Design Control” of Appendix B to 10 CFR Part 50 to verify adequacy of design for service under design basis event conditions. Existing licensees and applicants of final design certification rules will not be required to comply with these new positions set forth in this draft regulatory guide, unless the licensee or design certification rule applicant seeks a voluntary change to its licensing basis with respect to safety-related power operated valve actuators, and where the NRC determines that the safety review must include consideration of the qualification of the valve actuators. Further information on the staff's use of the draft regulatory guide, if finalized, is contained in the RG under section D. Implementation.

Dated at Rockville, Maryland, this 24th day of April 2013.
For the Nuclear Regulatory Commission.
Thomas H. Boyce,
Chief, Regulatory Guide Development Branch, Division of Engineering, Office of Nuclear Regulatory Research.

[FR Doc. 2013-10255 Filed 4-30-13; 8:45 am]

BILLING CODE 7590-01-P